DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: March 20, 2014, 10:00 a.m.

PLACE: Room 2C, 888 First Street NE., Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1003RD—Meeting

Regular Meeting

March 20, 2014

10:00 a.m.

Item No | Docket No. | Company
Administrative
A-1 | AD02-1-000 | Agency Business Matters.
A-2 | AD02-7-000 | Customer Matters, Reliability, Security and Market Operations.
A-3 | AD06-3-000 | Market Update.
Electric
E-1 | ER13-103-001 | California Independent System Operator Corporation.
| ER13-103-003 |
| ER12-2709-001 | Pacific Gas and Electric Company.
| ER13-87-001 | San Diego Gas & Electric Company.
E-2 | OMITTED |
E-3 | OMITTED |
E-4 | RM13-16-000 | Generator Verification Reliability Standards.
E-5 | RM13-5-001 | Version 5 Critical Infrastructure Protection Reliability Standards.
E-6 | RM13-19-000 | Generator Relay Loadability and Revised.
| RM14-3-000 | Transmission Relay Loadability Reliability Standards.
E-7 | RD14-2-000 | North American Electric Reliability Corporation.
E-8 | ER14-385-000 | New York Independent System Operator, Inc.
E-9 | ER14-375-000 | ISO New England Inc. and New England Power Pool Participants Committee.
E-10 | ER13-2063-001 | California Independent System Operator Corporation.
| ER14-1004-000 |
E-11 | QF12-135-000 | Iowa Hydro, LLC.
E-12 | EL13-60-001 | Otter Creek Solar LLC.
| QF13-402-002 |
E-13 | EL13-73-000 | Hydrodynamics Inc., Montana Marginal Energy, Inc., WINData, LLC.
| QF85-212-001 | Hydrodynamics, Inc.
| QF08-556-001 |
| QF08-557-001 |
| QF08-558-001 |
| QF08-559-001 |
| QF08-598-001 |
| QF03-36-001 | Montana Marginal Energy, LLC.
| QF03-127-001 | Two Dot Wind Energy, LLC.
| QF04-87-001 |
| QF04-157-001 | Two Dot Wind, LLC.
| QF10-668-001 | Two Dot Wind Farm, LLC.
| QF05-140-001 | Mo Wind, LLC.
| QF11-449-002 | Greenfield Wind, LLC.
| QF11-450-003 | Fairfield Wind LLC.
| QF13-425-001 | Greenfield Wind II, LLC.
| QF13-421-001 | Coyote Wind LLC.
E-14 | ER14-480-000 | California Independent System Operator Corporation.
E-15 | ER14-495-000 | California Independent System Operator Corporation.
E-16 | EL12-35-001 | Midwest Independent Transmission System Operator, Inc.
|  | ALLETE, Inc.
|  | Ameren Illinois Company.
|  | Ameren Transmission Company of Illinois.
|  | American Transmission Company, LLC.
|  | Big Rivers Electric Corporation.
|  | Board of Water, Electric and Communications.
|  | Trustees of the City of Muscatine, Iowa.
|  | Central Minnesota Municipal Power Agency.
|  | City of Columbia, Missouri, Water & Light Company.
|  | City Water, Light & Power (Springfield, Illinois).
|  | Duke Energy Indiana, Inc.
|  | Dairyland Power Cooperative.
|  | Great River Energy.
|  | Hoosier Energy Rural Electric Cooperative, Inc.
|  | Indiana Municipal Power Agency.
|  | Indianapolis Power & Light Company.
|  | International Transmission Company.
|  | ITC Midwest, LLC.
|  | Michigan Electric Transmission Company, LLC.
|  | Michigan Public Power Agency.
|  | Michigan South Central Power Agency.
|  | MidAmerican Energy Company.
|  | Missouri River Energy Services.
|  | Montana-Dakota Utilities Company.
|  | Montezuma Municipal Light & Power.
|  | Municipal Electric Utility of the City of Cedar Falls, Iowa.
|  | Muscatine Power and Water.
|  | Northern Indiana Public Service Company.
|  | Northern States Power Company, a Minnesota Corporation.
|  | Northern States Power Company, a Wisconsin Corporation.
|  | Northwestern Wisconsin Electric Company.
|  | Otter Tail Power Company.
|  | Southern Illinois Power Cooperative.
|  | Southern Indiana Gas & Electric Company.
|  | Southern Minnesota Municipal Power Agency.
|  | Tipton Municipal Utilities.
|  | Wabash Valley Power Association, Inc.
|  | Wolverine Power Supply Cooperative, Inc.
E-17 | ER13-2375-000 | Midcontinent Independent System Operator, Inc. and Southern Indiana Gas & Electric Company.
E-18 | ER13-2376-000 | Midcontinent Independent System Operator, Inc. and Northern Indiana Public Service Company.
E-19 | ER13-2379-000 | Midcontinent Independent System Operator, Inc.
| EL12-35-000 | Midwest Independent Transmission System Operator, Inc.
|  | ALLETE, Inc.
|  | Ameren Illinois Company.
|  | Ameren Transmission Company of Illinois.
|  | American Transmission Company, LLC.
|  | Big Rivers Electric Corporation.
|  | Board of Water, Electric and Communications.
|  | Trustees of the City of Muscatine, Iowa.
|  | Central Minnesota Municipal Power Agency.
|  | City of Columbia, Missouri, Water & Light Company.
|  | City Water, Light & Power (Springfield, Illinois).
|  | Duke Energy Indiana, Inc.
|  | Dairyland Power Cooperative.
|  | Entergy Services, Inc.
|  | Great River Energy.
|  | Hoosier Energy Rural Electric Cooperative, Inc.
|  | Indiana Municipal Power Agency.
|  | Indianapolis Power & Light Company.
|  | International Transmission Company.
|  | ITC Midwest, LLC.
|  | Michigan Electric Transmission Company, LLC.
|  | Michigan Public Power Agency.
|  | Michigan South Central Power Agency.
|  | MidAmerican Energy Company.
|  | Missouri River Energy Services.
|  | Montana-Dakota Utilities Company.
|  | Montezuma Municipal Light & Power.
|  | Municipal Electric Utility of the City of Cedar Falls, Iowa.
|  | Muscatine Power and Water.
|  | Northern States Power Company, a Minnesota Corporation.
|  | Northern States Power Company, a Wisconsin, Corporation.
|  | Northwestern Wisconsin Electric Company.
|  | Otter Tail Power Company.
|  | Southern Illinois Power Cooperative.
|  | Southern Minnesota Municipal Power Agency.
|  | Tipton Municipal Utilities.
|  | Wabash Valley Power Association, Inc.
|  | Wolverine Power Supply Cooperative, Inc.
| ER13-948-000 | Entergy Services, Inc.
E-20 | EC14-14-000 | NRG Energy Holdings, Inc. and Edison Mission Energy.
E-21 | EC14-37-000 | Glacial Energy Holdings.
|  | Glacial Energy of California, Inc.
|  | Glacial Energy of Illinois, Inc.
|  | Glacial Energy of New England, Inc.
|  | Glacial Energy of New Jersey, Inc.
|  | Glacial Energy of New York.
|  | Voltage Energy Holdings, Inc.
E-22 | EL10-49-000 | Old Dominion Electric Cooperative and North Carolina Electric Membership Corporation v. Virginia Electric and Power Company.
Miscellaneous
M-1 | RM14-2-000 | Coordination of the Scheduling Processes of Interstate Natural Gas Pipelines and Public Utilities.
M-2 | EL14-22-000 | California Independent System Operator Corporation.
| EL14-23-000 | ISO New England, Inc.
| EL14-24-000 | PJM Interconnection, LLC.
| EL14-25-000 | Midcontinent Independent System Operator, Inc.
| EL14-26-000 | New York Independent System Operator, Inc.
| EL14-27-000 | Southwest Power Pool, Inc.
M-3 | RP14-442-000 | Posting of Offers to Purchase Capacity.
Gas
G-1 | OR14-8-000 | Colonial Pipeline Company.
Hydro
H-1 | P-12690-005 | Public Utility District No. 1 of Snohomish County, Washington.
Certificates
C-1 | CP13-528-000 | Northern Natural Gas Company.
C-2 | CP14-13-000 | Houston Pipe Line Company LP.

Issued March 13, 2014.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2014-05978 Filed 3-14-14; 11:15 am]

BILLING CODE 6717-01-P